SOCIAL SECURITY ADMINISTRATION

Agency Information Collection Activities; Emergency Consideration Request

In compliance with Public Law 104-13, the Paperwork Reduction Act of 1995, the Social Security Administration (SSA) is providing notice of its information collections that require submission to the Office of Management and Budget (OMB). SSA is requesting emergency consideration from OMB by July 12, 2000, of the information collections listed below.

1. Representative Payee Report-Special Veterans Benefits-0960-NEW. The information collected on form SSA-2001 is used to determine whether payments certified to the representative payee have been used properly and whether the representative payee continues to demonstrate strong concern for the beneficiary's best interests. The form will be completed annually by all representative payees receiving special veterans benefits (SVB) payments on behalf of beneficiaries outside the United States. It will also be required at anytime SSA has reason to believe that the representative payee could be misusing the payments. Respondents are representative payees of veterans receiving SVB Payments under title VIII.

Number of Respondents: 200

Frequency of Response: 1

Average Burden Per Response: 10 minutes

Estimated Annual Burden: 33 hours

Background Information

In November 1999, Congress passed the Foster Care Independence Act, and on December 14, 1999, the President signed it into law (Pub. L. 106-169). An important part of this legislation, section 251, creates a new title VIII of the Social Security Act. Title VIII provides for a program of special benefits for certain World War II veterans.

As a part of the title VIII administration, Section 807(a) of PL 106-169, also provides that, if the Social Security Administration determines that it is not in the best interest of the beneficiary to receive benefits directly, payments may be certified to a relative, another person or an organization interested in or concerned about the welfare of the beneficiary. These individuals or organizations are called representative payees.

You can obtain a copy of the collection instruments and/or OMB clearance packages by calling the SSA Reports Clearance Officer on (410) 965-4145, or by writing to him.

(SSA Address)

Social Security Administration, DCFAM, Attn: Frederick W. Brickenkamp, 6401 Security Blvd., 1-A-21 Operations Bldg., Baltimore, MD 21235.

Dated: June 21, 2000.
Frederick W. Brickenkamp,
Reports Clearance Officer.

[FR Doc. 00-16119 Filed 6-23-00; 8:45 am]

BILLING CODE 4190-29-U